DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 66 FR 14904-14906, dated March 14, 2001) is amended to reflect the establishment of the National Center on Birth Defects and Developmental Disabilities within the Centers for Disease Control and Prevention.

The Children's Health Act of 2000, passed by the U.S. Congress and signed into law by the President on October 17, 2000, requires the establishment of the National Center on Birth Defects and Developmental Disabilities at CDC by April 15, 2001. As specified in the Act, CDC will include in the new Center the programs, functions, and staff of the current Division of Birth Defects and Developmental Disabilities (DBDDD), National Center for Environmental Health (NCEH). Consequently, DBDDD will be abolished as an organizational component of NCEH and established as the National Center on Birth Defects and Developmental Disabilities. Congressional intent of the Act is focused on incorporating birth defects and developmental disabilities, as well as adult disabilities and secondary prevention programs, in the new Center.

Section C-B, Organization and Functions, is hereby amended as follows:

After the mission statement for the Division of Acute Care, Rehabilitation Research, and Disability Prevention (CE6), National Center for Injury Prevention and Control (CE), insert the following:

National Center on Birth Defects and Developmental Disabilities (CF)

The mission of the National Center on Birth Defects and Developmental Disabilities (NCBDDD) is to improve the health of children and adults by preventing birth defects and developmental disabilities, promoting optimal child development, and the health and wellness among children and adults living with disabilities. In carrying out this mission, this organization: (1) Conducts public health research, epidemiological investigations, and program demonstrations directed toward preventing birth defects and developmental disabilities, optimal fetal, infant, and child development, and promoting the health and wellness of people with disabilities, including the prevention of secondary conditions; (2) plans, develops, establishes, and maintains systems of surveillance and monitoring the population for these conditions; (3) operates regional centers for the conduct of applied epidemiological research on these conditions; (4) provides information and education to health care providers, public health professionals, and the public on these conditions; (5) provides technical assistance, consultation, capacity building through technology transfer, grants, cooperative agreements, contracts, and other means to State, local, international, and nonprofit organizations to prevent and control these conditions; (6) provides training in the epidemiology of these conditions for health professionals within and outside the United States; (7) translates scientific findings into intervention, prevention, and health promotion strategies; (8) conducts evaluations of programs to determine effectiveness; and (9) coordinates activities with other CDC organizations and federal and non-federal health agencies, as appropriate.

Delete in their entirety the title and mission statement for the Division of Birth Defects and Developmental Disabilities (CN5), National Center for Environmental Health (CN).

Section C-D, Delegations of Authority. All delegations and redelegations of authority to any officers or employees which were in effect immediately prior to this reorganization and which are consistent with this reorganization shall continue in effect pending further redelegation.

Dated: April 12, 2001.
Jeffrey P. Koplan,
Director.

[FR Doc. 01-9739 Filed 4-18-01; 8:45 am]

BILLING CODE 4160-18-M